DEPARTMENT OF THE INTERIOR

Bureau of Land Management

[AK-932-1410-FQ; A-029820]

Public Land Order No. 7660; Partial Revocation of Public Land Order No. 1973; Alaska

AGENCY: Bureau of Land Management, Interior.

ACTION: Public land order.

SUMMARY: This order partially revokes a Public Land Order insofar as it affects 0.88 acre of public land withdrawn for administrative purposes for use by the Forest Service, Department of Agriculture, at Juneau, Alaska. The land is no longer needed for the purpose for which it was withdrawn. This action also allows the conveyance of the land to the State of Alaska, if such land is otherwise available. Any land described herein that is not conveyed to the State will be subject to Public Land Order No. 5186, as amended, and any other withdrawal or segregation of record.

DATES: Effective Date: April 4, 2006.

ADDRESSES: Alaska State Office, Bureau of Land Management, 222 West Seventh Avenue, #13, Anchorage, Alaska, 99513-7599.

FOR FURTHER INFORMATION CONTACT: Robbie J. Havens, Bureau of Land Management, Alaska State Office, 222 West Seventh Avenue #13, Anchorage, Alaska, 99513-7599, 907-271-5477.

SUPPLEMENTARY INFORMATION: The partial revocation of Public Land Order No. 1973 will allow the land to be conveyed to the State of Alaska, who will convey the parcel to the City and Borough of Juneau as a municipal entitlement.

Order

By virtue of the authority vested in the Secretary of the Interior by Section 204 of the Federal Land Policy and Management Act of 1976, 43 U.S.C. 1714 (2000), and by Section 17(d)(1) of the Alaska Native Claims Settlement Act, 43 U.S.C. 1616(d)(1) (2000), it is ordered as follows:

1. Public Land Order No. 1973 (24 FR 7253, September 9, 1959), which withdrew public land for administrative purposes, is hereby revoked insofar as it affects the following described land:

Copper River Meridian

U.S. Survey No. 3566, Lot 3, located within T. 41 S., R. 67 E.

The area described contains 0.88 acre.

2. The State of Alaska application for selection made under Section 6(a) of the Alaska Statehood Act of July 7, 1958, 48 U.S.C. note prec. 21 (2000), and under Section 906(e) of the Alaska National Interest Lands Conservation Act, 43 U.S.C. 1635(e) (2000), becomes effective without further action by the State upon publication of this public land order in the Federal Register, if such land is otherwise available. Lands selected by, but not conveyed to, the State will be subject to Public Land Order No. 5186, as amended, and any other withdrawal or segregation of record.

Dated: March 16, 2006.
Mark Limbaugh,
Assistant Secretary of the Interior.

[FR Doc. E6-4834 Filed 4-3-06; 8:45 am]

BILLING CODE 4310-JA-P